SECURITIES AND EXCHANGE COMMISSION

Issuer Delisting; Notice of Application to Withdraw from Listing and Registration; (Integrated Orthopaedics, Inc., Common Stock, $.001 Par Value) File No. 1-10677

March 2, 2001.

Integrated Orthopaedics, Inc., a Texas corporation (“Issuer”), has filed an application with the Securities and Exchange Commission (“Commission”), pursuant to section 12(d) of the Securities Exchange Act of 1934 (“Act”) ¹ and Rule 12d2-2(d) thereunder,² to withdraw its Common Stock, $.001 par value (“Security”), from listing and registration on the American Stock Exchange (“Amex”).

¹ 15 U.S.C. 78l(d).

² 17 CFR 240.12d2-2(d).

Amex listing guidelines require that, when a listed company is acquired by an unlisted company, even though the listed company is the nominal survivor, the Amex will apply its original listing criteria in evaluating the eligibility of the surviving company for listing. Representatives of the Amex have advised the Issuer that, upon completion of the Issuer's expected merger with PowerBrief, Inc., its Security will no longer be eligible to be listed on the Amex because the resultant combined company will not meet the Amex's original listing criteria. As a result, the Issuer has determined to voluntarily withdraw its Security from listing and registration on the Amex at this time. The Issuer has indicated that it will pursue the possibility of having the Security quoted in the unlisted over-the-counter market once it has ceased to trade on the Amex.

The Issuer has stated in its application that it has complied with the rules of the Amex governing the withdrawal of its Security and that the application relates solely to the withdrawal of the Security from listing on the Amex and registration under Section 12(b) of the Act.³

³ 15 U.S.C. 78l(b).

Any interested person may, on or before March 23, 2001, submit by letter to the Secretary of the Securities and Exchange Commission, 450 Fifth Street, N.W., Washington, D.C. 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority.⁴
⁴ 17 CFR 200.30-3(a)(1).
Jonathan G. Katz,
Secretary.

[FR Doc. 01-5690 Filed 3-7-01; 8:45 am]

BILLING CODE 8010-01-M